DEPARTMENT OF COMMERCE

International Trade Administration

(A-427-818)

Low Enriched Uranium from France: Final Results of Antidumping Duty Administrative Review

AGENCY: Import Administration, International Trade Administration, Department of Commerce.

SUMMARY: On March 7, 2006, the Department of Commerce (the Department) published the preliminary results of its third administrative review of the antidumping duty order on low enriched uranium (LEU) from France. The review covers one producer of the subject merchandise. The period of review (POR) is February 1, 2004 through January 31, 2005. Based on our analysis of the comments received, we have made changes to the preliminary results. For the final dumping margins see the “Final Results of Review” section below.

EFFECTIVE DATE: September 5, 2006.

FOR FURTHER INFORMATION CONTACT: Mark Hoadley or Myrna Lobo, AD/CVD Operations, Office 6, Import Administration, International Trade Administration, U.S. Department of Commerce, 14th Street & Constitution Avenue, NW, Washington, DC 20230; telephone: (202) 482-3148 or (202) 482-2371, respectively.

SUPPLEMENTARY INFORMATION:

Background

On March 7, 2006, the Department published in the Federal Register the preliminary results of the third administrative review of the antidumping duty order on LEU from France. See Low Enriched Uranium From France: Preliminary Results of Antidumping Duty Administrative Review, 71 FR 11386 (March 7, 2006) (Preliminary Results).

Since the Preliminary Results the following events have occurred. As noted in the Preliminary Results, in accordance with section 773(f)(3) of the Tariff Act of 1930, as amended (the Act), and section 351.407(b) of our regulations, we decided to conduct an analysis to determine whether the respondent's purchases of electricity from its affiliated supplier, Électricité de France (EdF), were made at prices below the cost of production (COP) during the POR. See Memorandum to Barbara E. Tillman from Mark Hoadley, Petitioners' Allegation of Purchases of a Major Input From Electricité de France (EdF), an Affiliated Party, at Prices Below the Affiliated Party's Cost of Production, dated January 25, 2006. Subsequent to respondent's initial response concerning this major input, the Department issued a supplemental questionnaire on March 16, 2006, seeking clarification on EdF's COP information. A timely response was received on March 30, 2006.

On May 1, 2006, we received case briefs from the sole respondent, Eurodif S.A., AREVA NC (formerly Compagnie Générale Des Matiéres Nucléaires, S.A.) and AREVA NC Inc. (formerly COGEMA, Inc.) (collectively, Eurodif/AREVA, the respondent), and the petitioner, the United States Enrichment Corporation and USEC Inc. (collectively, USEC). Eurodif/AREVA and USEC submitted their rebuttal briefs on May 9, 2006. The petitioner requested a hearing on May 2, 2006, but withdrew its request on May 9, 2006.

On July 7, 2006, the Department published in the Federal Register a notice extending the deadline for the final results from July 5, 2006 to August 21, 2006. See Low Enriched Uranium from France: Extension of Time Limit for Final Results of Antidumping Duty Administrative Review, 71 FR 38611 (July 7, 2006).

Scope of the Order

The product covered by this order is all low enriched uranium (LEU). LEU is enriched uranium hexafluoride (UF6) with a U235 product assay of less than 20 percent that has not been converted into another chemical form, such as UO2, or fabricated into nuclear fuel assemblies, regardless of the means by which the LEU is produced (including LEU produced through the down-blending of highly enriched uranium).

Certain merchandise is outside the scope of this order. Specifically, this order does not cover enriched uranium hexafluoride with a U235 assay of 20 percent or greater, also known as highly enriched uranium. In addition, fabricated LEU is not covered by the scope of this order. For purposes of this order, fabricated uranium is defined as enriched uranium dioxide (UO2), whether or not contained in nuclear fuel rods or assemblies. Natural uranium concentrates (U3O8) with a U235 concentration of no greater than 0.711 percent and natural uranium concentrates converted into uranium hexafluoride with a U235 concentration of no greater than 0.711 percent are not covered by the scope of this order.

Also excluded from this order is LEU owned by a foreign utility end-user and imported into the United States by or for such end-user solely for purposes of conversion by a U.S. fabricator into uranium dioxide (UO2) and/or fabrication into fuel assemblies so long as the uranium dioxide and/or fuel assemblies deemed to incorporate such imported LEU (i) remain in the possession and control of the U.S. fabricator, the foreign end-user, or their designed transporter(s) while in U.S. customs territory, and (ii) are re-exported within eighteen (18) months of entry of the LEU for consumption by the end-user in a nuclear reactor outside the United States. Such entries must be accompanied by the certifications of the importer and end-user.

The merchandise subject to this order is currently classifiable in the Harmonized Tariff Schedule of the United States (HTSUS) at subheading 2844.20.0020. Subject merchandise may also enter under 2844.20.0030, 2844.20.0050, and 2844.40.00. Although the HTSUS subheadings are provided for convenience and customs purposes, the written description of the merchandise is dispositive.

Analysis of Comments Received

The issues raised in all case and rebuttal briefs by parties to this administrative review are addressed in the Issues and Decision Memorandum to David M. Spooner, Assistant Secretary for Import Administration, from Stephen J. Claeys, Deputy Assistant Secretary for Import Administration (Decision Memorandum), which is hereby adopted by this notice. A list of the issues addressed in the Decision Memorandum is appended to this notice. The Decision Memorandum is on file in the Central Records Unit (CRU), and can be accessed directly on the Web at http://ia.ita.doc.gov/frn. The paper copy and electronic version of the Decision Memorandum are identical in content.

Changes Since the Preliminary Results

Based on our analysis of comments received, we have made adjustments to our margin calculations. The adjustments are discussed in detail in the Decision Memorandum.

Final Results of Review

As a result of our review, we determine that the following weighted-average margin exists for the period February 1, 2004 through January 31, 2005:

Manufacturer/Exporter | Margin (percent)
Eurodif/AREVA | 14.60

Assessment

The Department will determine, and U.S. Customs and Border Protection (CBP) shall assess, antidumping duties on all appropriate entries, pursuant to 19 CFR 351.212(b). The Department calculated importer-specific duty assessment rates on the basis of the ratio of the total amount of antidumping duties calculated for the examined sales to the total entered value of the examined sales for that importer. The Department will not issue liquidation instructions for any entries of Eurodif merchandise until such time as the July 1, 2002 injunction issued by the Court of International Trade is lifted.

The Department clarified its “automatic assessment” regulation on May 6, 2003 (68 FR 23954). This clarification will apply to entries of subject merchandise during the period of review produced by the company included in these final results of review for which the reviewed company did not know their merchandise was destined for the United States. In such instances, we will instruct CBP to liquidate unreviewed entries at the all others rate if there is no rate for the intermediate company involved in the transaction. For a full discussion of this clarification, see Antidumping and Countervailing Duty Proceedings: Assessment of Antidumping Duties, 68 FR 23954 (May 6, 2003).

Cash Deposits

The following deposit requirements will be effective upon publication of the final results of this administrative review for all shipments of LEU from France entered, or withdrawn from warehouse, for consumption on or after the publication date of these final results, as provided by section 751(a) of the Act: (1) for Eurodif/AREVA, the cash deposit rate will be the rate listed above; (2) for merchandise exported by producers or exporters not covered in this review but covered in a previous segment of this proceeding, the cash deposit rate will continue to be the company-specific rate published in the most recent final results in which that producer or exporter participated; (3) if the exporter is not a firm covered in this review or in any previous segment of this proceeding, but the producer is, the cash deposit rate will be that established for the producer of the merchandise in these final results of review or in the most recent final results in which that producer participated; and (4) if neither the exporter nor the producer is a firm covered in this review or in any previous segment of this proceeding, the cash deposit rate will be 19.95 percent, the “all others” rate established in the investigation. See Notice of Amended Final Determination of Sales at Less Than Fair Value and Antidumping Duty Order: Low Enriched Uranium from France, 67 FR 6680 (February 13, 2002). These deposit requirements shall remain in effect until publication of the final results of the next administrative review.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred, and in the subsequent assessment of double antidumping duties.

Notification Regarding Administrative Protective Orders

This notice is the only reminder to parties subject to the administrative protective order (APO) of their responsibility concerning the return or destruction of proprietary information disclosed under the APO in accordance with 19 CFR 351.305. Timely written notification of the return or destruction of APO materials or conversion to judicial protective order is hereby requested. Failure to comply with the regulations and the terms of an APO is a sanctionable violation.

We are issuing and publishing these final results and this notice in accordance with sections 751(a)(1) and 777(i)(1) of the Act.

Dated: August 21, 2006.
David M. Spooner,
Assistant Secretary for Import Administration.

Appendix I.—Issues in Decision Memorandum

Comment 1: Cost of Electricity

Comment 2: Calculation of Electricity Cost

Comment 3: Date of Sale for Certain Deliveries

Comment 4: Inclusion of All POR Deliveries in Margin Calculation

Comment 5: Home Market Indirect Selling Expense (ISE) Calculation

Comment 6: Application of the ISE Ratio

Comment 7: Use of Facts Available for R&D Costs

Comment 8: Calculation of CEP Profit Ratio

Comment 9: Feedstock Values Used in Gross Unit Price

Comment 10: Rescission of Review and Liquidation of Entries without Assessment of Duties

Comment 11: Correction to Net U.S. Price

[FR Doc. E6-14659 Filed 9-1-06; 8:45 am]

BILLING CODE 3510-DS-S